DEPARTMENT OF COMMERCE

National Oceanic and Atmospheric Administration

[I.D. 031607D]

North Pacific Fishery Management Council; Public Meetings

AGENCY: National Marine Fisheries Service (NMFS), National Oceanic and Atmospheric Administration (NOAA), Commerce.

ACTION: Notice of public committee meetings.

SUMMARY: The North Pacific Fishery Management Council's (Council) Steller Sea Lion Mitigation Committee (SSLMC) will meet in Juneau, AK.

DATES: The meeting will be held on April 16-17, 2007, from 8:30 a.m. to 5 p.m. The Proposal Scoring Subcommittee will meet on April 16 and the full Committee will meet April 17-19, 2007.

ADDRESSES: The meetings will be held at the National Marine Fisheries Service, 709 W 9th Avenue, Regional Administrator's Conference Room, Juneau, AK.

Council address: North Pacific Fishery Management Council, 605 W. 4th Ave., Suite 306, Anchorage, AK 99501-2252.

FOR FURTHER INFORMATION CONTACT: Bill Wilson, North Pacific Fishery Management Council; telephone: (907) 271-2809.

SUPPLEMENTARY INFORMATION: The Committee will review proposals and proposal scoring process with the Subcommittee; receive proposal presentations from proposers; discuss proposals with proposers and request additional information as needed.

Special Accommodations

These meetings are physically accessible to people with disabilities. Requests for sign language interpretation or other auxiliary aids should be directed to Gail Bendixen, (907) 271-2809, at least 5 working days prior to the meeting date.

Dated: March 19, 2007.
Tracey L. Thompson,
Acting Director, Office of Sustainable Fisheries, National Marine Fisheries Service.

[FR Doc. E7-5307 Filed 3-22-07; 8:45 am]

BILLING CODE 3510-22-S